DEPARTMENT OF COMMERCE

National Oceanic and Atmospheric Administration

[RTID 0648-XD857]

Endangered and Threatened Species; Initiation of a 5-Year Review for the Endangered Western Distinct Population Segment of Steller Sea Lion

AGENCY: National Marine Fisheries Service (NMFS), National Oceanic and Atmospheric Administration (NOAA), Commerce.

ACTION: Notice of initiation of 5-year review; request for information.

SUMMARY: NMFS announces its intent to conduct a 5-year review of the endangered western distinct population segment (DPS) of the Steller sea lion (Eumetopias jubatus). NMFS is required by the Endangered Species Act (ESA) to conduct 5-year reviews to ensure that listing classifications of species are accurate. The 5-year review must be based on the best scientific and commercial data available at the time of the review. We request submission of any such information on the western DPS (WDPS) of Steller sea lion, particularly information on their status, threats, and recovery that has become available since the previous 5-year review was issued in 2020.

DATES: To allow us adequate time to conduct this review, we must receive your information no later than June 17, 2024. However, we will continue to accept new information about any listed species at any time.

ADDRESSES: You may submit comments on this document, identified by docket number NOAA-NMFS-2024-0032, by any of the following methods:

• Electronic Submission: Submit all electronic public comments via the Federal e-Rulemaking Portal. Visit https://www.regulations.gov and type NOAA-NMFS-2024-0032 in the Search box. Click on the “Comment” icon, complete the required fields, and enter or attach your comments.

• Mail: Submit written comments to Anne Marie Eich, Assistant Regional Administrator for Protected Resources, Alaska Region NMFS, Attn: Records Office. Mail comments to P.O. Box 21668, Juneau, AK 99802-1668.

• Fax: (907) 586-7012; Attn: Dr. Anne Marie Eich.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Kim Raum-Suryan, NMFS Alaska Region, 907-586-7424, kim.raum-suryan@noaa.gov.

SUPPLEMENTARY INFORMATION: Section 4(c)(2)(A) of the ESA requires that the Secretary, through NMFS, conduct a review of ESA-listed species at least once every 5 years (16 U.S.C. 1533(c)(2)(A)). The regulations in 50 CFR 424.21 require that we publish a notice in the Federal Register announcing species currently under active review. On the basis of such reviews, under section 4(c)(2)(B) we determine whether a listed species should be delisted, or be reclassified from endangered to threatened or from threatened to endangered (16 U.S.C. 1533(c)(2)(B)). As described by the regulations in 50 CFR 424.11(e), the Secretary shall delist a species if the Secretary finds that, after conducting a status review based on the best scientific and commercial data available: (1) the species is extinct; (2) the species has recovered to the point at which it no longer meets the definition of an endangered species or a threatened species; (3) new information that has become available since the original listing decision shows the listed entity does not meet the definition of an endangered species or a threatened species; or (4) new information that has become available since the original listing decision shows the listed entity does not meet the definition of a species. Any change in Federal classification would require a separate rulemaking process.

The Steller sea lion was listed as threatened under the ESA by an emergency interim rule on April 5, 1990 (55 FR 12645). NMFS published a final rule to list the Steller sea lion as a threatened species under the ESA on November 26, 1990 (55 FR 49204). NMFS designated critical habitat for the Steller sea lion on August 27, 1993 (58 FR 45269). On May 5, 1997, based on demographic and genetic dissimilarities, NMFS reclassified the Steller sea lion into two DPSs: a WDPS, listed as endangered, and an eastern DPS (EDPS), listed as threatened (62 FR 24345). The WDPS, comprised of animals originating from breeding sites west of 144° W longitude, was listed as endangered (62 FR 24345, May 5, 1997) due to persistent decline and lack of recovery, while the EDPS remained listed as threatened. On November 4, 2013, NMFS delisted the EDPS Steller sea lion (78 FR 66140). NMFS completed the last 5-year review of this species on February 20, 2020 and the document is available on the NMFS website at: https://www.fisheries.noaa.gov/resource/document/western-distinct-population-segment-steller-sea-lion-5-year-review-summary-and. Background information on these Steller sea lion DPSs is available on the NMFS website at: https://www.fisheries.noaa.gov/species/steller-sea-lion/overview.

Determining if a Species Is Threatened or Endangered

Section 4(a)(1) of the ESA requires that we determine whether a species is endangered or threatened based on one or more of the five following factors: (1) the present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after conducting a review of the status of the species and after taking into account those efforts, if any, being made by any State or foreign nation to protect such species.

Application of the DPS Policy

On February 7, 1996, NMFS adopted the Policy Regarding the Recognition of Distinct Vertebrate Population Segments (DPS Policy) to clarify the interpretation of the phrase “distinct population segment of any species of vertebrate fish or wildlife” for the purposes of listing, delisting, and reclassifying species under the ESA (61 FR 4722). The WDPS of Steller sea lion was listed as a DPS of a vertebrate taxon. In the application of the DPS Policy, we are responsible for determining whether species, subspecies, or DPSs of marine and anadromous species are threatened or endangered under the ESA. A DPS is defined in the DPS Policy (61 FR 4722, February 7, 1996). For a population to be listed under the ESA as a DPS, three elements are considered: (1) the discreteness of the population segment in relation to the remainder of the species to which it belongs; (2) the significance of the population segment to the species to which it belongs; and (3) the population segment's conservation status in relation to the Act's standards for listing (i.e., is the population segment, when treated as if it were a species, endangered or threatened?). DPSs of vertebrate species, as well as subspecies of all listed species, may be proposed for separate reclassification or for removal from the List. As required by the DPS policy, we will apply the DPS policy during the 5-year review.

Public Solicitation of New Relevant Information

To ensure that the 5-year review is complete and based on the best scientific and commercial data available, we are soliciting new information from the public, governmental agencies, Tribes, the scientific community, industry, environmental entities, and any other interested parties concerning the status of the endangered WDPS of the Steller sea lion. Categories of requested information include: (1) species biology including, but not limited to, population trends, distribution, abundance, demographics, and genetics; (2) habitat conditions including, but not limited to, amount, distribution, suitability, and important features for conservation; (3) status and trends of threats to the species and its habitats; (4) conservation measures that have been implemented that benefit the species, including monitoring data demonstrating effectiveness of such measures; (5) need for additional conservation measures; and (6) other new information, data, or corrections including, but not limited to, taxonomic or nomenclatural changes and improved analytical methods for evaluating extinction risk.

If you wish to provide information for this review, you may submit your information and materials electronically or via mail (see ADDRESSES section). We request that all information be accompanied by supporting documentation such as maps, bibliographic references, or reprints of pertinent publications. We also would appreciate the submitter's name, address, and any association, institution, or business that the person represents; however, anonymous submissions will also be accepted.

Authority: 16 U.S.C. 1531 et seq.

Dated: April 12, 2024.
Angela Somma,
Chief, Endangered Species Conservation Division, Office of Protected Resources, National Marine Fisheries Service.

[FR Doc. 2024-08208 Filed 4-16-24; 8:45 am]

BILLING CODE 3510-22-P